DEPARTMENT OF ENERGY

Agency Information Collection Extension

AGENCY: U.S. Department of Energy.

ACTION: Notice and request for comments.

SUMMARY: The Department of Energy (DOE) has submitted an information collection request to the OMB for an extension under the provisions of the Paperwork Reduction Act of 1995. The information collection requests a three-year extension of its Environment, Safety and Health reporting requirements, OMB Control Number 1910-0300. This information collection request covers information necessary for the DOE to exercise management oversight and control over Management and Operating (M&O) contractors of the DOE's Government-Owned Contractor-Operated (GOCO) facilities, and offsite contractors. The contractor management oversight and control function concerns the ways in which the DOE's contractors provide goods and services for DOE organizations and activities in accordance with the terms of their contract(s); the applicable statutory, regulatory and mission support requirements of the DOE; and regulations in the functional area covered in this request.

DATES: Comments regarding this collection must be received on or before September 27, 2019. If you anticipate difficulty in submitting comments within that period of time allowed by this notice, please advise the OMB Desk Officer of your intention to make a submission as soon as possible. The Desk Officer may be telephoned at (202) 395-4718.

ADDRESSES: Written comments should be sent to the DOE Desk Officer, Office of Information and Regulatory Affairs, Office of Management and Budget, New Executive Office Building, Room 10102, 735 17th Street NW, Washington, DC 20503, and to Sandra K. Dentinger, AU-70/E-455 Germantown Building, U.S. Department of Energy, 1000 Independence Ave. SW, Washington, DC 20585-1290 or by fax at (301) 903-0048, by email at Sandra.Dentinger@hq.doe.gov, or information about the collection instruments may be obtained at: https://energy.gov/ehss/information-collection.

FOR FURTHER INFORMATION CONTACT: Requests for additional information or copies of the information collection instrument and instructions should be directed to Sandra K. Dentinger at Sandra.Dentinger@hq.doe.gov, or (301) 903-5139.

SUPPLEMENTARY INFORMATION: The information collection request contains the following: (1) OMB No: 1910-0300; (2) Information Collection Request Title: Environment, Safety and Health; (3) Type of Review: renewal; (4) Purpose: The collections are used by DOE to exercise management oversight and control over its contractors in the ways in which the DOE's contractors provide goods and services for DOE organizations and activities in accordance with the terms of their contract(s); the applicable statutory, regulatory and mission support requirements of the Department. The collections are: Computerized Accident/Incident Reporting System (CAIRS); Occurrence Reporting and Processing System (ORPS); Noncompliance Tracking System (NTS); Radiation Exposure Monitoring System (REMS); Annual Fire Protection Summary Application; Safety Basis Information System; and Lessons Learned System; (5) Annual Estimated Number of Respondents: 845; (6) Annual Estimated Number of Total Responses: 82,155; (7) Response Obligation: Required, except for Noncompliance Tracking System (see Statutory Authority section below); (8) Annual Estimated Number of Burden Hours: 37,280; (9) Annual Estimated Reporting and Recordkeeping Cost Burden: $0.

Statutory Authority: Section 641 of the Department of Energy Organization Act, codified at 42 U.S.C. 7251, and the following additional authorities:

Computerized Accident/Incident Reporting System (CAIRS): DOE Order 231.1B (June 27, 2011).

Occurrence Reporting and Processing System (ORPS): DOE Order 232.2 (August 30, 2011).

Noncompliance Tracking System (NTS): 10 CFR part 820; 10 CFR part 851.

Radiation Exposure Monitoring System (REMS): 10 CFR part 835; DOE Order 231.1B (June 27, 2011).

Annual Fire Protection Summary Application: DOE Order 231.1B (June 27, 2011).

Safety Basis Information System: 10 CFR part 830; DOE O 231.1B (June 27, 2011).

Lessons Learned System: DOE Order 210.2A (April 8, 2011).

Signed in Washington, DC, on August 15, 2019.
Matthew B. Moury,
Associate Under Secretary for Environment, Health, Safety and Security.

[FR Doc. 2019-18614 Filed 8-27-19; 8:45 am]

BILLING CODE 6450-01-P